DEPARTMENT OF COMMERCE

National Oceanic and Atmospheric Administration

50 CFR Part 679

[Docket No. 251212-0184; RTID 0648-XF348]

Fisheries of the Exclusive Economic Zone Off Alaska; Bering Sea and Aleutian Islands; 2026 and 2027 Harvest Specifications for Groundfish

Correction

In proposed rule document 2025-22995, appearing on pages 58204 through 58228 in the issue of Tuesday, December 16, 2025, make the following correction:

On page 58212, below Table 3, below footnote 6, footnote 7 should read:

⁷ The 2027 allocations for Atka mackerel between Amendment 80 cooperatives and the Amendment 80 limited access sector will not be known until eligible participants apply for participation in the program by November 1, 2026.

[FR Doc. C1-2025-22995 Filed 2-12-26; 8:45 am]

BILLING CODE 0099-10-D